DEPARTMENT OF THE INTERIOR

Bureau of Indian Affairs

[212A2100DD/AAKC001030/A0A501010.999900253G]

Indian Gaming; Approval of Tribal-State Class III Gaming Compact in the State of Washington

AGENCY: Bureau of Indian Affairs, Interior.

ACTION: Notice.

SUMMARY: This notice publishes the approval of the Fourth Amendment to the Tribal-State Compact for Class III Gaming between the Snoqualmie Indian Tribe (Tribe) and the State of Washington (State).

DATES: The compact takes effect on July 13, 2021.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Compact expands the types of payments allowed, updates references to State law citations, specifies Federal court jurisdiction for dispute resolution, adds recipients who may receive contributions from the smoking cessation and prevention funds, adds Appendix D, which regulates limitations on wagers, credit, facilities, and problem gaming resources and contributions. The Compact also adds Appendix W, which contains rules governing wide area progressives. The Compact is approved.

Bryan Newland,
Principal Deputy Assistant Secretary—Indian Affairs.

[FR Doc. 2021-14834 Filed 7-12-21; 8:45 am]

BILLING CODE 4337-15-P